DEPARTMENT OF COMMERCE

National Oceanic and Atmospheric Administration

[I.D. 050307E]

New England Fishery Management Council; Public Meeting

AGENCY: National Marine Fisheries Service (NMFS), National Oceanic and Atmospheric Administration (NOAA), Commerce.

ACTION: Notice of a public meeting.

SUMMARY: The New England Fishery Management Council's (Council) Multispecies (Groundfish/Monkfish) Committee will meet to consider actions affecting New England fisheries in the exclusive economic zone (EEZ).

DATES: The meeting will be held on Thursday, May 31, 2007, at 9 a.m.

ADDRESSES: The meeting will be held at the Providence Biltmore, 11 Dorrance Street, Providence, RI 02903; telephone: (401) 421-0700.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Multispecies (Groundfish) Committee will hold a joint meeting with the Multispecies (Monkfish) Committee to continue development of Amendment 16 to the Northeast Multispecies Fishery Management Plan (FMP). The Multispecies (Groundfish) Committee will discuss revisions to the days-at-sea system, including a suggestion to develop a days-at-sea performance plan. They will also discuss a proposal to develop a limited entry program for party/charter fishing vessels that fish in the Gulf of Maine. After these discussions, the Committee will develop a recommendation for the Council on which alternative management systems (including the area management and point system proposals discussed at a meeting on April 20, 2007) should be developed in Amendment 16 as alternatives that will be considered for implementation in fishing year 2009. The Committee may recommend any of the alternatives for further development, or may make other recommendations on the contents of the amendment. The two Committees will then discuss the overlap between the groundfish and monkfish management plans and will consider whether the two plans should be merged, or if other changes are necessary in light of planned Amendment 16 development. The Multispecies (Groundfish) Committee will then review sector proposals received by the Council and develop a recommendation for the Council on what to do with those proposals. Finally, the Multispecies (Groundfish) Committee will consider recommending a standard that the Regional Administrator can use to approve additional gears in the Eastern U.S./Canada Haddock Special Access Program and in the Category B (regular) Day-at-Sea Program.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: May 4, 2007.
Tracey L. Thompson,
Acting Director, Office of Sustainable Fisheries, National Marine Fisheries Service.

[FR Doc. E7-8852 Filed 5-8-07; 8:45 am]

BILLING CODE 3510-22-S